DEPARTMENT OF AGRICULTURE

Agricultural Marketing Service

[Doc. No.: AMS-ST-07-0144; ST-07-02]

Notice of Request for New Information Collection

AGENCY: Agricultural Marketing Service, USDA.

ACTION: Notice and request for comments.

SUMMARY: In accordance with the Paperwork Reduction Act of 1995 (44 U.S.C. Chapter 35), this notice announces that the Agricultural Marketing Service (AMS) is requesting approval from the Office of Management and Budget of a new information collection “Laboratory Approval Programs” in support of U.S. agricultural commodities.

DATES: Comments received by February 11, 2008 will be considered.

Additional Information or Comments: Interested persons are invited to submit comments on this proposal to Jane Ho, Technical Services Branch, Science and Technology, Agricultural Marketing Service, U.S. Department of Agriculture, 1400 Independence Avenue, SW., Stop 0272 Washington, DC 20250-0272; Phone 202-690-0621, Fax 202-720-4631. Comments should be submitted in triplicate. Comments may also be submitted electronically through http://www.regulations.gov. All comments should reference the docket number and page number of this issue of the Federal Register. All comments received will be made available for public inspection at the above address during regular business hours and may be viewed at http://www.regulations.gov.

SUPPLEMENTARY INFORMATION:

Title: Laboratory Approval Programs.

OMB Number: 0581-New.

Expiration Date of Approval: 3 years from date of OMB approval.

Type of Request: New Information Collection.

Abstract: Under the Agricultural Marketing Act of 1946, as amended (7 U.S.C. 1621-1627), AMS provides analytical testing services that facilitate marketing and allow products to obtain grade designations or meet marketing or quality standards. Pursuant to this authority, AMS develops and maintains laboratory certification and approval programs as needed by the agricultural industry, to support domestic and international marketing of U.S. products. These programs have been small in the past and not subject to the information collection approval provisions of the Paperwork Reduction Act. Changes in the import requirements of foreign countries and proposed regulatory changes make it likely that requests for laboratory certification will increase so that products may be tested at the processing site. The laboratory certification and approval programs will remain voluntary and fee for service.

To ensure that a laboratory is capable of accurately performing the specified analyses, it must adhere to certain good laboratory practices and show technical proficiency in the required areas. Checklist and form have been developed that ask the laboratory for information concerning procedures, the physical facility, employees, and their training. The laboratory must also provide Standard Operating Procedures (SOPs) for the analyses and quality assurance. Most of the laboratory programs will include an on-site laboratory review. AMS will not approve a laboratory unless there is assurance that the laboratory is capable of performing accurate analyses.

Interested parties can obtain a copy of the form (ST-212) by calling or writing to the point of contact listed above. The information collection requirements in this request are essential to examine laboratories for entrance into the following programs:

(1) Analyst and Laboratory Certification Program for the Detection of Trichinae in Pork (An export program requested by Food Safety and Inspection Service).

(2) Laboratory Verification Program for Poultry Exported from the United States to Russia (An export program requested by Food Safety and Inspection Service).

This program contains the possibility of performing 12 different analyses in support of the exportation of poultry to Russia. Laboratories choose how many and which analyses for which they wish to be approved. Each of microbiological/chemical analyses has its own methodology and the time necessary to perform the analyses.

(3) Aflatoxin in Pistachios Program (A High Performance Liquid Chromatography method for exporting pistachios to European Union requested by the California Pistachio Committee) and the domestic program using a test kit analysis method (identified in the Pistachio Marketing Order); Aflatoxin in Peanuts Program (7 CFR part 996); and Aflatoxin in Almonds Program (requested by the Almond Board of California).

These programs are single analyte, single substrate programs, but the domestic pistachio, peanut, and almond programs have the option of using two different methods. The export pistachio program and export almond program must use the specified method.

(4) Any additional programs which may be requested in the future to facilitate the marketing of U.S. agricultural products.

All laboratory approval programs will follow the same general pattern. There would be a letter of intent, a form for identification of the analyses they intend to perform, an on-site laboratory review, analysis of known samples, and analysis of proficiency samples. The length of time required would depend on the complexity of the analysis, and the time necessary to perform the analysis.

The burden hours incurred for these laboratories to submit the initial letter requesting entrance, completion of a general laboratory checklist, and correctly analyzing the test samples is a one-time occurrence. Once a laboratory is accepted, the burden will decrease and is then based on the various laboratories analyzing test samples throughout the year to maintain its program status.

Form ST-212 (Alternate Payment Form) has been developed and is included in the submission to OMB for approval. This is an option for applicant/approved laboratories to pay for the services.

Estimate of Burden: Public reporting burden for this collection of information is estimated to average 8.55 hours per response.

Respondents: Laboratories.

Estimated Number of Respondents: 82.

Estimated Total Annual Responses: 666.

Estimated Number of Responses per Respondent: 8.12.

Estimated Total Annual Burden on Respondents: 5695.3.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology. Comments may be sent to Jane Ho, Technical Services Branch, Science and Technology, Agricultural Marketing Service, U.S. Department of Agriculture, 1400 Independence Avenue, SW., Stop 0272 Washington, DC 20250-0272; Phone 202-690-0621, Fax 202-720-4631. All comments received will be available for public inspection during regular business hours at the same address.

All responses to this notice will be summarized and included in the request for OMB approval. All comments will become a matter of public record.

Dated: December 6, 2007.
Kenneth C. Clayton,
Acting Administrator, Agricultural Marketing Service.

[FR Doc. E7-24057 Filed 12-11-07; 8:45 am]

BILLING CODE 3410-02-P